DEPARTMENT OF LABOR

Employment and Training Administration

[TA-W-85,717; TA-W-85,717A]

California Redwood Company, A Subsidiary of Green Diamond Resource Company, Korbel, CA; California Redwood Company, Brainard Division, A Subsidiary of Green Diamond Resource Company, Including On-Site Leased Workers From Express Employment Professionals and River City Staffing, Eureka, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 18, 2015 applicable to workers and former workers of California Redwood Company, a subsidiary of Green Diamond Resource Company, Korbel, California. Workers of the subject firm are engaged in activities related to the production of lumber.

A state workforce agent requested that the Department review the afore-mentioned certification because an affiliated Eureka, California facility finishes the lumber produced at the Korbel, California facility.

The intent of the Department's certification is to include all workers at the subject firm who were adversely affected by increased imports of lumber products.

The Department has determined that the Eureka, California facility supplied drying, shipping and finishing services to affiliated California Redwood Company facilities, including the Korbel, California facility; specifically, the Eureka, California facility received rough lumber from the Korbel, California facility to supply services to produce precision, specific, and decorative cuts of redwood. In addition, the worker groups at the Korbel and Eureka, California facilities are similarly impacted by increased imports of articles like or directly competitive with the lumber products produced by the subject firm.

Based on these findings, the Department is amending this certification to also include workers of California Redwood Company, Brainard Division, a subsidiary of Green Diamond Resource Company, including on-site leased workers from Express Employment Professionals and River City Staffing, Eureka, California.

The amended notice applicable to TA-W-85,717 is hereby issued as follows:

All workers of California Redwood Company, a subsidiary of Green Diamond Resource Company, Korbel, California (TA-W-85,717) and California Redwood Company, Brainard Division, a subsidiary of Green Diamond Resource Company, including on-site leased workers from Express Employment Professionals and River City Staffing, Eureka, California (TA-W-85,717A), who became totally or partially separated from employment on or after December 9, 2013 through March 18, 2017, and all workers in the two groups threatened with total or partial separation from employment on December 9, 2013 through March 18, 2017 are eligible to apply for adjustment assistance under Section 223 of the Trade Act of 1974, and are also eligible to apply for alternative trade adjustment assistance under Section 246 of the Trade Act of 1974.

Signed in Washington, DC, this 10th day of March, 2016.
Jessica R. Webster,
Certifying Officer, Office of Trade Adjustment Assistance.

[FR Doc. 2016-09551 Filed 4-25-16; 8:45 am]

BILLING CODE 4510-FN-P